DEPARTMENT OF COMMERCE

International Trade Administration

[A-570-886]

Notice of Final Determination of Sales at Less Than Fair Value: Polyethylene Retail Carrier Bags From the People's Republic of China

AGENCY: Import Administration, International Trade Administration, Department of Commerce.

SUMMARY: On January 26, 2004, the Department of Commerce published its preliminary determination of sales at less than fair value in the investigation on polyethylene retail carrier bags from the People's Republic of China. On February 20, 2004, the Department of Commerce published its amended preliminary determination of sales at less than fair value. The period of investigation is October 1, 2002, through March 31, 2003. The investigation covers nine manufacturers/exporters which are mandatory respondents and nineteen section A respondents.

We invited interested parties to comment on our preliminary determination of sales at less than fair value. Based on our analysis of the comments received, we have made changes to our calculations for all parties. The final dumping margins for this investigation are listed in the “Final Determination Margins” section below.

EFFECTIVE DATE: June 18, 2004.

FOR FURTHER INFORMATION CONTACT: Hermes Pinilla (Nantong), Edythe Artman (Senetex), Kristin Case (United Wah), Jeffrey Frank (Ming Pak), Janis Kalnins (Zhongshan), Jennifer Moats (Hang Lung), Thomas Schauer (Rally Plastics), or Dmitry Vladimirov (Glopack), Import Administration, International Trade Administration, U.S. Department of Commerce, 14th Street and Constitution Avenue, NW., Washington, DC 20230; telephone: (202) 482-4733.

Final Determination

We determine that polyethylene retail carrier bags (PRCBs) from the People's Republic of China (PRC) are being, or are likely to be, sold in the United States at less than fair value (LTFV) as provided in section 735 of the Tariff Act of 1930, as amended (the Act). The estimated margins of sales at LTFV are shown in the “Final Determination Margins” section of this notice.

Case History

The Department of Commerce (the Department) published its preliminary determination of sales at LTFV on January 26, 2004. See Notice of Preliminary Determination of Sales at Less Than Fair Value and Postponement of Final Determination: Polyethylene Retail Carrier Bags from the People's Republic of China, 69 FR 3544 (Preliminary Determination). On February 20, 2004, the Department published an amended preliminary determination. See Notice of Amended Preliminary Determination of Sales at Less Than Fair Value and Postponement of Final Determination: Polyethylene Retail Carrier Bags from the People's Republic of China, 69 FR 7908 (Amended Preliminary Determination). We invited parties to comment on the Preliminary Determination. We received comments from the Polyethylene Retail Carrier Bag Committee and its individual members (collectively, petitioners) and from the following respondents: Hang Lung Plastic Manufactory Limited (Hang Lung), Dongguan Huang Jiang United Wah Plastic Bag Factory (United Wah), Nantong Huasheng Plastic Products Company, Limited (Nantong), Rally Plastics Company, Limited (Rally Plastics), Shanghai Glopack Packing Company Limited and Sea Lake Polyethylene Enterprise Limited (collectively, Glopack), Xiamen Ming Pak Plastics Company, Limited (Ming Pak), Nan Sing Plastics, Limited (Nan Sing), Dongguan Zhongqiao Combine Plastic Bag Factory (Dongguan Zhongqiao), Zhongshan Dongfeng Hung Wai Plastic Bag Manufactory (Zhongshan), Guangdong Esquel Packaging Company, Limited (Guangdong Esquel), and Duralok, Inc. (Duralok). On March 22, 2004, parties submitted surrogate-value information. On April 27, 2004, parties submitted case briefs. On May 3, 2004, parties submitted rebuttal briefs.

Scope of Investigation

The merchandise subject to this investigation is PRCBs which may be referred to as t-shirt sacks, merchandise bags, grocery bags, or checkout bags. The subject merchandise is defined as non-sealable sacks and bags with handles (including drawstrings), without zippers or integral extruded closures, with or without gussets, with or without printing, of polyethylene film having a thickness no greater than .035 inch (0.889 mm) and no less than .00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments (e.g., grocery, drug, convenience, department, specialty retail, discount stores, and restaurants) to their customers to package and carry their purchased products. The scope of the investigation excludes (1) polyethylene bags that are not printed with logos or store names and that are closeable with drawstrings made of polyethylene film and (2) polyethylene bags that are packed in consumer packaging with printing that refers to specific end-uses other than packaging and carrying merchandise from retail establishments (e.g., garbage bags, lawn bags, trash-can liners).

Imports of the subject merchandise are classified under statistical category 3923.21.0090 of the Harmonized Tariff Schedule of the United States (HTSUS). This subheading also covers products that are outside the scope of this investigation. Furthermore, although the HTSUS subheading is provided for convenience and customs purposes, our written description of the scope of this investigation is dispositive.

Scope Comments

The Department received scope comments and addressed them in the “Issues and Decision Memorandum for the Investigation of Polyethylene Retail Carrier Bags from the People's Republic of China” from Jeff May to James J. Jochum (June 9, 2004) (Decision Memo).

Analysis of Comments Received

All issues raised in the case and rebuttal briefs by parties in this investigation are addressed in the Issues and Decision Memorandum, dated June 9, 2004, which is hereby adopted by this notice (the Decision Memorandum). A list of the issues which parties raised and to which we respond in the Decision Memorandum is attached to this notice as an Appendix. The Decision Memorandum is a public document and is on file in the Central Records Unit (CRU), Main Commerce Building, Room B-099, and is accessible on the Web at www.ia.ita.doc.gov. The paper copy and electronic version of the memorandum are identical in content.

Separate Rates

In the Preliminary Determination, the Department found that several companies which provided responses to section A of the antidumping questionnaire were eligible for a rate separate from the PRC-wide rate. These companies are as follows: Beijing Lianbin Plastics and Printing Company Limited (Beijing Lianbin), Dongguan Zhongqiao, Good-in Holdings Limited (Good-in Holdings), Guangdong Esquel, Nan Sing, Ningbo Fanrong Plastics Products Company Limited (Ningbo Fanrong), Ningbo Huansen Plasthetics Company, Limited (Ningbo Huansen), Rain Continent Shanghai Company Limited (Rain Continent), Shanghai Dazhi Enterprise Development Company, Limited (Shanghai Dazhi), Shanghai Fangsheng Coloured Packaging Company Limited (Shanghai Fangsheng), Shanghai Jingtai Packaging Material Company, Limited (Shanghai Jingtai), Shanghai Light Industrial Products Import and Export Corporation (Shanghai Light Industrial), Shanghai Minmetals Development Limited (Shanghai Minmetals), Shanghai New Ai Lian Import and Export Company Limited (Shanghai New Ai Lian), Shanghai Overseas International Trading Company, Limited (Shanghai Overseas), Shanghai Yafu Plastics Industries Company Limited (Shanghai Yafu), Weihai Weiquan Plastic and Rubber Products Company, Limited (Weihai Weiquan), Xiamen Xingyatai Industry Company, Limited (Xiamen Xingyatai), and Xinhui Henglong. Consequently, we calculated a weighted-average margin for these companies based on the rates we calculated for the selected respondents (see Memorandum from Thomas Schauer to the File regarding calculation of the adverse-facts-available and non-adverse-facts-available margins dated January 16, 2004). The margin we calculated in the Preliminary Determination for these companies was 12.71 percent was amended in the Amended Preliminary Determination to 18.43 percent. Because the rates of the selected mandatory respondents have changed since the Preliminary Determination and the Amended Preliminary Determination, we have recalculated the rate for section A respondents to be 23.06 percent. For a more detailed discussion of the section A rate, see Memorandum to the File entitled “Analysis for the Final Determination of Polyethylene Retail Carrier Bags from the People's Republic of China (PRC): Calculation of PRC-Wide Rate Based on Adverse Facts Available and the Non-Adverse Margin for Respondents Not Selected for Analysis,” dated June 9, 2004 (PRC-Wide Rate Memo).

With the exception of Nantong, the companies receiving this “section A” rate remain the same as those listed in the Preliminary Determination and are identified by name in the “Final Determination Margins” section of this notice. Nantong was given the “section A” rate as facts otherwise available for the Preliminary Determination. Because we are now using the data that Nantong reported, we are no longer using the “section A” rate for Nantong. For a more detailed discussion of this matter, see Comment 13.B of Issues and Decision Memorandum, dated June 9, 2004.

The PRC-Wide Rate

Because the Department begins with the presumption that all companies within a non-market-economy country are subject to government control and because only the companies listed in the “Final Determination Margins” section below have overcome that presumption, we are applying a single antidumping rate—the PRC-wide rate—to all other exporters in the PRC. The PRC-wide rate we calculated in the Preliminary Determination was 80.52 percent. Because of certain changes to surrogate values, we have recalculated the PRC-wide rate to be 77.33 percent. For a more detailed discussion of these changes and the PRC-wide rate calculations, see the PRC-Wide Rate Memo.

Tai Chiuan failed to respond at all to the antidumping questionnaire. Senetex responded to the initial antidumping questionnaire but failed to respond to the supplemental questionnaire and submitted a letter stating that it no longer wished to participate in the investigation. By not responding fully to the questionnaire, two mandatory respondents, Senetex and Tai Chiuan, failed to demonstrate entitlement to a separate rate and, therefore, we preliminarily determined that the PRC-wide rate should apply to them. We have not received any information since the issuance of the Preliminary Determination that provides a basis for reconsideration of these determinations. Therefore, for the final determination we have not established a rate separate from the PRC-wide rate for these companies.

Final Determination Margins

We determine that the following percentage weighted-average margins exist:

Exporter and Producer | Margin (percent)
Hang Lung | 0.20
United Wah | 23.19
Nantong | 2.29
Rally Plastics | 23.81
Glopack | 19.73
Ming Pak | 35.23
Zhongshan | 41.21
Beijing Lianbin | 23.06
Dongguan Zhongqiao | 23.06
Good-in Holdings | 23.06
Guangdong Esquel | 23.06
Nan Sing | 23.06
Ningbo Fanrong | 23.06
Ningbo Huansen | 23.06
Rain Continent | 23.06
Shanghai Dazhi | 23.06
Shanghai Fangsheng | 23.06
Shanghai Jingtai | 23.06
Shanghai Light Industrial | 23.06
Shanghai Minmetals | 23.06
Shanghai New Ai Lian | 23.06
Shanghai Overseas | 23.06
Shanghai Yafu | 23.06
Weihai Weiquan | 23.06
Xiamen Xingyatai | 23.06
Xinhui Henglong | 23.06
PRC-wide Rate | 77.33

Verification

As provided in section 782(i) of the Act, we verified the information submitted by the respondents for use in our final determination. We used standard verification procedures, including examination of relevant accounting and production records, as well as original source documents provided by respondents.

Continuation of Suspension of Liquidation

Pursuant to 735(c)(1)(B) of the Act, we will instruct U.S. Customs and Border Protection (CBP) to continue to suspend liquidation of all entries of subject merchandise from the PRC (except for entries of Hang Lung because this company has a de minimis margin) entered, or withdrawn from warehouse, for consumption on or after January 26, 2004, the date of publication of the Preliminary Determination. In accordance with section 351.204(e)(3) of our regulations, this exclusion only applies to merchandise produced and exported by Hang Lung. CBP shall continue to require a cash deposit or the posting of a bond equal to the estimated amount by which the normal value exceeds the U.S. price as shown above. These instructions suspending liquidation will remain in effect until further notice.

Disclosure

We will disclose the calculations performed within five days of the date of publication of this notice to parties in this proceeding in accordance with 19 CFR 351.224(b).

International Trade Commission Notification

In accordance with section 735(d) of the Act, we have notified the International Trade Commission (ITC) of our final determination of sales at LTFV. As our final determination is affirmative, in accordance with section 735(b)(2) of the Act, the ITC will, within 45 days, determine whether the domestic industry in the United States is materially injured, or threatened with material injury, by reason of imports, or sales (or the likelihood of sales) for importation, of the subject merchandise. If the ITC determines that material injury or threat of material injury does not exist, the proceeding will be terminated and all securities posted will be refunded or canceled. If the ITC determines that such injury does exist, the Department will issue an antidumping duty order directing the CBP to assess antidumping duties on all imports of the subject merchandise entered, or withdrawn form warehouse, for consumption on or after the effective date of the suspension of liquidation (i.e., January 26, 2004).

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: June 9, 2004.
James J. Jochum,
Assistant Secretary for Import Administration.

Appendix

Issues in the Decision Memorandum

1. Scope Comments

2. Surrogate Financial Ratios

3. Market-Economy Inputs

4. Adjusting Indian Import Statistics

A. Excluding Countries That Receive Export Subsidies

B. Excluding Aberrational Data When Using the Indian Import Statistics

C. Excluding U.S. Data from Indian Import Statistics

5. Surrogate Value for Ink

6. Surrogate Value for Varnish

7. Surrogate Value for Other Materials

8. Surrogate Value for Labor

9. Surrogate Value for Electricity

10. Change in Name of Section A Respondent

11. Hang Lung Issues

A. Affiliated U.S. Customer

B. Adverse Facts Available for Electricity

C. Adjustment of Market-Economy Purchases to Account for Unpaid Foreign Customs Duties

D. Currency Conversion of U.S. Sales in Hong Kong Dollars

E. Currency Conversion of Domestic Inland Freight

12. United Wah Issues

A. Certain “Market-Economy” Purchases by United Wah

B. Ministerial-Error Allegation

13. Nantong Issues

A. Market-Economy Purchases of Raw Materials from Purchaser of PRCBs

B. Use of Adverse Facts Available for Inadequate Reporting of FOP Information

14. Rally Plastics Issues

A. Use of Facts Available for Direct Labor, Indirect Labor, and Electricity

B. Use of Facts Available for Marine Insurance

C. Use of Facts Available for International Freight

15. Glopack Issue

Classification of Sales as EP or CEP

16. Zhongshan Issues

A. Use of Adverse Facts Available for Sales Through Reliable Plastic Bags Manufacturing Ltd.

B. Ministerial-Error Allegations

C. Use of HTS Subheading 5607.90.02 to Value Cotton Rope/String

D. Valuing Cardboard Inserts Using HTS Subheadings

E. Surrogate Value for Rubber Rope

F. Surrogate Value for Clip (Loop) Handles

G. Whether the Department Should Adjust for Bank Fees

[FR Doc. 04-13815 Filed 6-17-04; 8:45 am]

BILLING CODE 3510-DS-P